DEPARTMENT OF THE INTERIOR

Fish and Wildlife Service

[FWS-R4-ES-2013-N069; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below, by May 1, 2013.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: David Dell, Permit Coordinator).

FOR FURTHER INFORMATION CONTACT: David Dell, Permit Coordinator, telephone 404-679-7313; facsimile 404-678-7081.

SUPPLEMENTARY INFORMATION: The public is invited to comment on the following applications for permits to conduct certain activities with endangered and threatened species pursuant to section 10(a)(1)(A) of the Endangered Species Act of 1973, as amended (16 U.S.C. 1531 et seq.) and our regulations in the Code of Federal Regulations (CFR) at 50 CFR part 17. This notice is provided under section 10(c) of the Act.

If you wish to comment, you may submit comments by any one of the following methods. You may mail comments to the Fish and Wildlife Service's Regional Office (see ADDRESSES section) or via electronic mail (email) to: permitsR4ES@fws.gov. Please include your name and return address in your email message. If you do not receive a confirmation from the Fish and Wildlife Service that we have received your email message, contact us directly at the telephone number listed above (see FOR FURTHER INFORMATION CONTACT). Finally, you may hand deliver comments to the Fish and Wildlife Service office listed above (see ADDRESSES).

Before including your address, telephone number, email address, or other personal identifying information in your comments, you should be aware that your entire comment—including your personal identifying information—may be made publicly available at any time. While you can ask us in your comments to withhold your personal identifying information from public review, we cannot guarantee that we will be able to do so.

Permit Application Number: TE-94704A

Applicant: Dorothy Brown, Candler, North Carolina

Applicant requests authorization to take (capture, mark, apply transmitters, track, survey, and collect tissues) Indiana bat (Myotis sodalis), gray bat (M. grisescens), Virginia big-eared bat (Corynorhinus townsendii virginianus), Carolina northern flying squirrel (Glaucomys sabrinus coloratus), and bog turtle (Clemmys muhlenbergii) for the purpose of conducting presence/absence surveys and assisting in species recovery efforts. These activities may be conducted throughout the States of Tennessee, North Carolina, South Carolina, Georgia, Alabama, Florida, Mississippi, Kentucky, Virginia, Maryland, West Virginia, Indiana, Ohio, Arkansas, Missouri, and Illinois.

Permit Application Number: TE-97394A

Applicant: Zachary Couch, Pleasureville, Kentucky

Applicant requests authorization to take (capture, mark, apply transmitters, track, survey, and collect tissues) Indiana bat (M. sodalis), gray bat (M. grisescens), and Virginia big-eared bat (C. t. virginianus), for the purpose of conducting presence/absence surveys and assisting in species recovery efforts. These activities may be conducted throughout Kentucky.

Permit Application Number: TE-97999A

Applicant: National Park Service, Buck Island Reef National Monument, Christiansted, Virgin Islands

Applicant requests authorization to take (capture, handle, mark, track, and survey) the St. Croix ground lizard (Ameiva polops) for the purpose of conducting presence/absence surveys and assisting in species recovery efforts. These activities will be conducted in Buck Island Reef National Monument, St. Croix, U.S. Virgin Islands.

Permit Application Number: TE-96635A

Applicant: David Thomas, Austin, Texas

Applicant requests authorization to take (capture, handle, and survey) pallid sturgeon (Scaphirhynchus albus), Gulf sturgeon (Acipenser oxyrinchus desotoi), Alabama shad (Alosa alabamae), pearl darter (Percina aurora), fat pocketbook (Potamilus capax), inflated heelsplitter (Potamilus inflatus), Louisiana pearlshell (Margaritifera hembeli), pink mucket (Lampsilis abrupta), and rabbitsfoot (Quadrula cylindrica cylindrica) for the purpose of conducting presence/absence surveys and assisting in species recovery efforts. These activities will be conducted in Louisiana.

Permit Application Number: TE-94669A

Applicant: Toledo Zoological Gardens, Toledo, Ohio

The applicant requests authorization to take the Virgin Islands boa (Epicrates monensis granti) for the purpose of developing a conservation breeding program and reintroduction to the wild. This activity will occur in Puerto Rico.

Permit Application Number: TE-105626

Applicant: Rex Roberg, Cabot, Arkansas

The applicant requests authorization to take (capture, handle, release) American burying beetle (Nicrophorus americanus) for the purpose of conducting presence/absence surveys and assisting in species recovery efforts. These activities will be conducted in Oklahoma and Arkansas.

Permit Application Number: TE-97308A

Applicant: John Harris, Scott, Arkansas

The applicant requests authorization to take (capture, handle, tissue sampling, release) 18 species of freshwater mussels for the purpose of conducting presence/absence/population surveys and assisting in species recovery efforts. These activities will be conducted throughout the range of each species: Ouachita rock pocketbook (Arkansia wheeleri), spectaclecase (Cumberlandia monodonta), fanshell (Cyprogenia stegaria), Curtis pearlymussel (Epioblasma florentina curtisii), snuffbox (E. triquetra), turgid blossom (E. turgidula), pink mucket (Lampsilis abrupta), Arkansas fatmucket (Lampsilis powellii), Neosho mucket (L. rafinesqueana), speckled pocketbook (L. streckeri), scaleshell (Leptodea leptodon), Louisiana pearlshell (Margaritifera hembeli), ring pink (Obovaria retusa), sheepnose (Plethobasus cyphyus), rough pigtoe (Pleurobema plenum), fat pocketbook (Potamilus capax), rabbitsfoot (Quadrula cylindrica cylindrica), and winged mapleleaf (Q. fragosa).

Dated: March 21, 2013.
Kenneth A. Garrahan,
Acting Regional Director.

[FR Doc. 2013-07497 Filed 3-29-13; 8:45 am]

BILLING CODE 4310-55-P